DEPARTMENT OF THE INTERIOR

Bureau of Land Management

[NV-930-1430-ES; N 061122]

Notice of Realty Action; Termination of Recreation and Public Purposes Act Classification; Lyon County, NV

AGENCY: Bureau of Land Management, Interior.

ACTION: Notice.

SUMMARY: This action terminates Recreation and Public Purposes (R&PP) Classification N 061122 in its entirety. The land will be opened to the public land laws, including the mining laws.

EFFECTIVE DATE: The land will be open to entry effective 10 a.m. on December 26, 2002.

FOR FURTHER INFORMATION CONTACT: Charles J. Kihm, Bureau of Land Management, Carson City Field Office, 5665 Morgan Mill Road, Carson City, Nevada 89701, 775-885-6000.

SUPPLEMENTARY INFORMATION: Pursuant to the authority delegated by Appendix 1 of Bureau of Land Management Manual 1203 dated April 14, 1987, R&PP Classification N 061122 is hereby terminated in its entirety on the following described public land:

Mount Diablo Meridian, Nevada

T. 13 N., R. 25 E.,

Sec. 25, S½NW¼NE¼, SW¼NE¼.

Containing 60.00 acres, more or less.

Classification N 061122 made pursuant to the Act of June 14, 1926, as amended (43 U.S.C. 869 et seq.), segregated the public land from all other forms of appropriation under the public land laws, including location under the United States mining laws, but not leasing under the mineral leasing laws. The land was previously leased to Lyon County for a sanitary landfill. The lease has terminated and the classification no longer serves any purpose.

At 10 a.m. on December 26, 2002, the land will become open to the operation of the public land laws generally, subject to valid existing rights, the provisions of existing withdrawals, and the requirements of applicable law. All valid applications received at or prior to 10 a.m. on December 26, 2002, shall be considered as simultaneously filed at that time. Those received thereafter shall be considered in the order of filing.

At 10 a.m. on December 26, 2002, the land will also be open to location under the United States mining laws. Appropriation of the land under the general mining laws prior to the date and time of restoration is unauthorized. Any such attempted appropriation, including attempted adverse possession under 30 U.S.C. 38, shall vest no rights against the United States. Acts required to establish a location and to initiate a right of possession are governed by State law where not in conflict with Federal law. The Bureau of Land Management will not intervene in disputes between rival locators over possessory rights since Congress has provided for such determination in local courts.

Dated: October 21, 2002.
Charles P. Pope,
Assistant Manager, Non-Renewable Resources, Carson City Field Office.

[FR Doc. 02-29825 Filed 11-22-02; 8:45 am]

BILLING CODE 4310-HC-M